DEPARTMENT OF TRANSPORTATION

Federal Highway Administration

Environmental Impact Statement; Nicollet, MN

AGENCY: Federal Highway Administration (FHWA), DOT.

ACTION: Notice of intent.

SUMMARY: The FHWA is issuing this notice to advise the public that an environmental impact statement (EIS) will be prepared for proposed highway improvements to Trunk Highway (TH) 14 from State Highway 15, just east of New Ulm, to County Road 6 near North Mankato, a distance of approximately 22 miles, in Nicollet County, Minnesota.

FOR FURTHER INFORMATION CONTACT: Cheryl Martin, Federal Highway Administration, Galtier Plaza, 380 Jackson Street, Suite 500, St. Paul, Minnesota 55101, Telephone (651) 291-6120; or Mark Scheidel, Project Manager, Minnesota Department of Transportation—District 7, 501 South Victory Drive, PO Box 4039, Mankato, Minnesota 56002-4039, Telephone (507) 389-6149; (800) 627-3529 TTY.

SUPPLEMENTARY INFORMATION: The FHWA, in cooperation with the Minnesota Department of Transportation (Mn/DOT), will prepare an EIS on a proposal to reconstruct TH 14 from State Highway 15, just east of New Ulm, to County Road 6 near North Mankato, a distance of approximately 22 miles, in Nicollet County, Minnesota. The proposed action is being considered to address future transportation demand, safety problems, and geometric design issues. The EIS will evaluate the social, economic, transportation and environmental impacts of alternatives, including: (1) No-Build and (2) variations of four-lane urban design and four-lane rural design “Build” alternatives involving reconstruction and capacity expansion of TH 14 along the existing highway corridor, including individual or combined bypass alignments north of Courtland and south of Nicollet.

The “Trunk Highway 14 West Interregional Corridor North Mankato to New Ulm Scoping Document/Draft Scoping Decision Document” was published in March 2003. A press release was published to inform the public of the document's availability. Copies of the scoping document were distributed to agencies, interested persons and libraries for review to aid in identifying issues and analyses to be contained in the EIS. A thirty-day comment period for review of the document was provided to afford an opportunity for all interested persons, agencies and groups to comment on the proposed action. A public scoping meeting was also held during the comment period. Public notice was given for the time and place of the meeting. The scoping comment period closed on May 2, 2003. At the time of publication of the scoping document, there was uncertainty as to the immediate completion of an EIS for this project due to a lack of funding. However, funding has been identified and, therefore, a Draft EIS will be prepared based on the outcome of and closely following the scoping process. The Draft EIS will be available for agency and public review and comment. In addition, a public hearing will be held following completion of the Draft EIS. Public Notice will be given for the time and place of the public hearing on the Draft EIS. Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: May 27, 2003.
Stanley M. Graczyk,
Project Development Engineer, Federal Highway Administration, St. Paul, Minnesota.

[FR Doc. 03-14187 Filed 6-4-03; 8:45 am]

BILLING CODE 4910-22-M